FEDERAL COMMUNICATIONS COMMISSION

47 CFR Part 73

[DA 05-2901, MM Docket No. 01-107, RM-10057]

Radio Broadcasting Services; Hemlock and Mount Pleasant, MI

AGENCY: Federal Communications Commission.

ACTION: Final rule; denial of petition for reconsideration.

SUMMARY: The staff denied a petition for reconsideration filed by MacDonald Broadcasting Company of a decision in this proceeding, reallotting and changing the community of license for Station WCEN-FM, Channel 233C1, from Mount Pleasant, MI, to Hemlock MI. The staff determined that the reconsideration petition did not demonstrate any errors of fact or law. Specifically, because Hemlock is not located inside the Saginaw, MI, Urbanized Area and because the station will not place a city-grade signal over 50 percent or more of that Urbanized Area, a Tuck showing was not required to demonstrate that Hemlock is sufficiently independent of the Saginaw Urbanized Area to warrant a first local service preference. See 66 FR 55598 (November 2, 2001).

FOR FURTHER INFORMATION CONTACT: Andrew J. Rhodes, Media Bureau, (202) 418-2180.

SUPPLEMENTARY INFORMATION: This is a synopsis of the Commission's Memorandum Opinion and Order, MM Docket No. 01-107, adopted November 2, 2005, and released November 4, 2005. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. This document is not subject to the Congressional Review Act. (The Commission, is, therefore, not required to submit a copy of this Report and Order to GAO, pursuant to the Congressional Review Act, see 5 U.S.C. 801(a)(1)(A) because the petition for reconsideration was denied.)

Federal Communications Commission.
John A. Karousos,
Assistant Chief, Audio Division, Media Bureau.

[FR Doc. 05-22836 Filed 11-22-05; 8:45 am]

BILLING CODE 6712-01-P